DEPARTMENT OF COMMERCE

International Trade Administration

[A-549-822]

Certain Frozen Warmwater Shrimp From Thailand: Notice of Correction to the Final Results of the 2012-2013 Antidumping Duty Administrative Review

AGENCY: Enforcement and Compliance, International Trade Administration, Department of Commerce.

FOR FURTHER INFORMATION CONTACT: Dennis McClure, Enforcement and Compliance, International Trade Administration, U.S. Department of Commerce, 14th Street and Constitution Avenue NW., Washington, DC 20230; telephone: (202) 482-5973.

SUPPLEMENTARY INFORMATION: On August 28, 2014, the Department of Commerce (the Department) published in the Federal Register the final results of the 2012-2013 administrative review of the antidumping duty order on certain frozen warmwater shrimp from Thailand.¹ The period of review is February 1, 2012, through January 31, 2013. Footnote 11 in the published Federal Register notice ² contained an inadvertent error related to the order in which certain antidumping duty margins were stated; the correct antidumping duty margins in this footnote 11 were reversed. The footnote should read:

¹ See Certain Frozen Warmwater Shrimp From Thailand: Final Results of Antidumping Duty Administrative Review, Final Determination of No Shipments, and Partial Rescission of Review; 2012-2013, 79 FR 51306 (August 28, 2014) (Final Results).

² See id.,79 FR at 51307 n.11.

This cash deposit rate is based on the combined sales of Thai Union and Pakfood after the companies were collapsed (i.e., sales made during the period April 23, 2012, through January 31, 2013). The rates calculated for Thai Union and Pakfood for the period February 1, 2012, through April 22, 2012, are 2.09 percent and zero percent, respectively. The calculations for the period February 1, 2012, through April 22, 2012, will be used for assessment purposes only, as noted in the “Collapsing of Thai Union and Pakfood” section of the Preliminary Decision Memorandum.

As a result, we now correct the final results of the 2012-2013 administrative review as noted above.

This correction to the final results of administrative review is issued and published in accordance with sections 751(a)(1) and 777(i)(1) of the Tariff Act of 1930, as amended.

Dated: October 8, 2014.
Paul Piquado,
Assistant Secretary for Enforcement and Compliance.

[FR Doc. 2014-24644 Filed 10-15-14; 8:45 am]

BILLING CODE 3510-DS-P